DEPARTMENT OF COMMERCE

National Oceanic and Atmospheric Administration

RIN 0648-XC029

Fisheries of the Gulf of Mexico; Southeast Data, Assessment, and Review (SEDAR); Public Meetings

AGENCY: National Marine Fisheries Service (NMFS), National Oceanic and Atmospheric Administration (NOAA), Commerce.

ACTION: Notice of SEDAR Workshops for Gulf of Mexico red snapper Lutjanus campechanus.

SUMMARY: The SEDAR assessment of the Gulf of Mexico stock of red snapper will consist of a series of three workshops: a Data Workshop, an Assessment Workshop, and a Review Workshop. This series of workshops will be referred to as SEDAR 31. See SUPPLEMENTARY INFORMATION.

DATES: The Data Workshop will take place August 20-24, 2012; the Assessment Workshop will take place January 28-February 1, 2013; the Review Workshop will take place April 29-May 3, 2013. See SUPPLEMENTARY INFORMATION for specific dates and times.

ADDRESSES: The Data Workshop will be held at the Crowne Plaza Pensacola Grande, 200 E. Gregory St., Pensacola, FL 32502; telephone: (850) 433-3336. The Assessment Workshop will be held at the Courtyard by Marriott Miami Coconut Grove, 2649 South Bayshore Dr., Miami, FL 33133; telephone: (305) 858-2500. The Review Workshop will be held at the Courtyard by Marriott Gulfport Beachfront, 1600 East Beach Blvd., Gulfport, MS 39501; telephone: (228) 864-4310.

FOR FURTHER INFORMATION CONTACT: Ryan Rindone, SEDAR Coordinator, 2203 North Lois Ave, Suite 1100, Tampa, FL 33607; telephone: (813) 348-1630; email: ryan.rindone@gulfcouncil.org.

SUPPLEMENTARY INFORMATION: The Gulf of Mexico, South Atlantic, and Caribbean Fishery Management Councils, in conjunction with NOAA Fisheries and the Atlantic and Gulf States Marine Fisheries Commissions have implemented the Southeast Data, Assessment and Review (SEDAR) process, a multi-step method for determining the status of fish stocks in the Southeast Region. SEDAR includes three workshops: (1) Data Workshop, (2) Stock Assessment Workshop and (3) Review Workshop. The product of the Data Workshop is a data report which compiles and evaluates potential datasets and recommends which datasets are appropriate for assessment analyses. The product of the Stock Assessment Workshop is a stock assessment report which describes the fisheries, evaluates the status of the stock, estimates biological benchmarks, projects future population conditions, and recommends research and monitoring needs. The assessment is independently peer reviewed at the Review Workshop. The product of the Review Workshop is a Summary documenting Panel opinions regarding the strengths and weaknesses of the stock assessment and input data. Participants for SEDAR Workshops are appointed by the Gulf of Mexico, South Atlantic, and Caribbean Fishery Management Councils and NOAA Fisheries Southeast Regional Office and Southeast Fisheries Science Center. Participants include data collectors and database managers; stock assessment scientists, biologists, and researchers; constituency representatives including fishermen, environmentalists, and NGO's; International experts; and staff of Councils, Commissions, and state and federal agencies.

SEDAR 31 Workshop Schedule

August 20-24, 2012; SEDAR 31 Data Workshop

August 20, 2012: 1 p.m.-8 p.m.; August 21-23, 2012: 8 a.m.-8 p.m.; August 24, 2012: 8 a.m.-12 p.m.

An assessment data set and associated documentation will be developed during the Data Workshop. Participants will evaluate all available data and select appropriate sources for providing information on life history characteristics, catch statistics, discard estimates, length and age composition, and fishery dependent and fishery independent measures of stock abundance.

January 28-February 1, 2013; SEDAR 31 Assessment Workshop

January 28, 2013: 1 p.m.-8 p.m.; January 29-31, 2013: 8 a.m.-8 p.m.; February 1, 2013: 8 a.m.-12 p.m.

Using datasets provided by the Data Workshop, participants will develop population models to evaluate stock status, estimate population benchmarks and Magnuson-Stevens Reauthorization Act criteria, and project future conditions. Participants will recommend the most appropriate methods and configurations for determining stock status and estimating population parameters. Participants will prepare a workshop report, compare and contrast various assessment approaches, and determine whether the assessments are adequate for submission to the review panel.

April 29-May 3, 2013; SEDAR 31 Review Workshop

April 29, 2013: 1 p.m.-8 p.m.; April 30-May 2, 2013: 8 a.m.-8 p.m.; May 3, 2013: 8 a.m.-12 p.m.

The Review Workshop is an independent peer review of the assessment developed during the Data and Assessment Workshops. Workshop Panelists will review the assessment and document their comments and recommendations in a Review Panel Summary.

Although non-emergency issues not contained in this agenda may come before these groups for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Gulf of Mexico Fishery Management Council office (see FOR FURTHER INFORMATION CONTACT) at least 10 business days prior to each workshop.

Dated: May 16, 2012.
Tracey L. Thompson,
Acting Director, Office of Sustainable Fisheries, National Marine Fisheries Service.

[FR Doc. 2012-12204 Filed 5-18-12; 8:45 am]

BILLING CODE 3510-22-P